DEPARTMENT OF AGRICULTURE

Grain Inspection, Packers and Stockyards Administration

Opportunity for Designation in Alabama, Essex (IL), Springfield (IL), Savage (MN), and Washington Areas, and Request for Comments on the Official Agencies Serving These Areas

AGENCY: Grain Inspection, Packers and Stockyards Administration, USDA.

ACTION: Notice.

SUMMARY: The designations of the official agencies listed below will end on December 31, 2008. We are asking persons interested in providing official services in the areas served by these agencies to submit an application for designation. We are also asking for comments on the quality of services provided by these currently designated agencies:

Alabama Department of Agriculture and Industries (Alabama);

Kankakee Grain Inspection, Inc. (Kankakee);

Springfield Grain Inspection, Inc. (Springfield);

State Grain Inspection, Inc. (State Grain); and

Washington Department of Agriculture (Washington).

DATES: Applications and comments must be received on or before July 1, 2008.

ADDRESSES: We invite you to submit applications and comments on this notice. You may submit applications and comments by any of the following methods:

• To apply for designation, go to FGIS online, Web page https://fgis.gipsa.usda.gov/default_home_FGIS.aspx Select Delegations/Designations and Export Registrations (DDR). You need e-authentication and a customer number prior to applying.

• Hand Delivery or Courier: Deliver to Karen Guagliardo, Review Branch Chief, Compliance Division, GIPSA, USDA, Room 1647-S, 1400 Independence Avenue, SW., Washington, DC 20250.

• Fax: Send by facsimile transmission to (202) 690-2755, attention: Karen Guagliardo.

• E-mail: Send via electronic mail to: Karen.W.Guagliardo@usda.gov.

• Mail: Send hardcopy to Karen Guagliardo, Review Branch Chief, Compliance Division, GIPSA, USDA, STOP 3604, 1400 Independence Avenue, SW., Washington, DC 20250-3604.

• Federal eRulemaking Portal: Go to http://www.regulations.gov. Follow the online instructions for submitting comments and reading any comments posted online.

Read Applications and Comments: All applications and comments will be available for public inspection at the office above during regular business hours (7 CFR 1.27(b)).

FOR FURTHER INFORMATION CONTACT: Karen Guagliardo at 202-720-7312, e-mail Karen.W.Guagliardo@usda.gov.

SUPPLEMENTARY INFORMATION: Section 7(f)(1) of the United States Grain Standards Act, as amended (USGSA or Act), authorizes GIPSA's Administrator to designate a qualified applicant to provide official services in a specified area after determining that the applicant is better able than any other applicant to provide such official services (7 U.S.C. 79 (f)(1)).

Section 7(g) (1) of USGSA provides that designations of official agencies will terminate not later than three years and may be renewed according to the criteria and procedures prescribed in section 7(f) of USGSA.

Current Designations Being Announced for Renewal

Official agency | Main office | Designation start | Designation end
Alabama | Montgomery, AL | 1/01/2009 | 12/31/2011.
Kankakee | Essex, IL | 1/01/2009 | 12/31/2011.
Springfield | Springfield, IL | 1/02/2009 | 12/31/2011.
State Grain | Savage, MN | 1/01/2009 | 12/31/2011.
Washington | Olympia, WA | 1/01/2009 | 12/31/2011.

Alabama

Pursuant to section 7(f)(2) of the Act, the following geographic area, the entire State of Alabama, except those export port locations within the State, is assigned to Alabama.

Kankakee

Pursuant to section 7(f)(2) of the Act, the following geographic area, in the State of Illinois, is assigned to Kankakee.

Bounded on the North by the northern Bureau County line; the northern LaSalle and Grundy County lines; the northern Will County line east-southeast to Interstate 57;

Bounded on the East by Interstate 57 south to U.S. Route 52; U.S. Route 52 south to the Kankakee County line;

Bounded on the South by the southern Kankakee and Grundy County lines; the southern LaSalle County line west to State Route 17; State Route 17 west to U.S. Route 51; U.S. Route 51 north to State Route 18; State Route 18 west to State Route 26; State Route 26 south to State Route 116; State Route 116 south to Interstate 74; Interstate 74 west to the western Peoria County line; and

Bounded on the West by the western Peoria and Stark County lines; the northern Stark County line east to State Route 40; State Route 40 north to the Bureau County line.

Springfield

Pursuant to section 7(f)(2) of the Act, the following geographic area, in the State of Illinois, is assigned to Springfield.

Bounded on the North by the northern Schuyler, Cass, and Menard County lines; the western Logan County line north to State Route 10; State Route 10 east to the west side of Beason;

Bounded on the East by a straight line from the west side of Beason southwest to Elkhart on Interstate 55; a straight line from Elkhart southeast to Stonington on State Route 48; a straight line from Stonington southwest to Irving on State Route 16;

Bounded on the South by State Route 16 west to the eastern Macoupin County line; the eastern, southern, and western Macoupin County lines; the southern and western Greene County lines; the southern Pike County line; and

Bounded on the West by the western Pike County line west to U.S. route 54; U.S. Route 54 northeast to State Route 107; State Route 107 northeast to State Route 104; State Route 104 east to the western Morgan County line. The western Morgan, Cass, and Schuyler County lines.

The following grain elevator, located outside of the above contiguous geographic area, is part of this geographic area assignment: East Lincoln Farmers Grain Co., Lincoln, Logan County (located inside Central Illinois Grain Inspection, Inc.'s, area).

State Grain

Pursuant to section 7(f)(2) of the Act, the following geographic area, the State of Minnesota, is assigned to State Grain.

In Minnesota:

Hennepin, Ramsey, Washington, Carver, Scott, Dakota, Brown, Nicollet, Le Sueur, Rice, Goodhue, Watonwan, Blue Earth, Waseca, Steele, Dodge, McLeod, and Sibley Counties.

Washington

Pursuant to section 7(f)(2) of the Act, the following geographic area, the entire State of Washington, except those export port locations within the State, is assigned to Washington.

Opportunity for Designation

Interested persons, including Alabama, Kankakee, Springfield, State Grain, and Washington, may apply for designation to provide official services in the geographic areas specified above under the provisions of section 7(f) of USGSA ( 7 U.S.C. 79(f)(2)), and 7 CFR 800.196(d) regulations. Designation in the specified geographic areas is for the period beginning January 1, 2009, and ending December 31, 2011. To apply for designation, contact the Compliance Division at the address listed above for forms and information, or obtain applications at the GIPSA Web site, http://www.gipsa.usda.gov.

Request for Comments

We are also publishing this notice to provide interested persons the opportunity to present comments on the quality of services provided by the Alabama, Kankakee, Springfield, State Grain, and Washington official agencies. In the designation process, we are particularly interested in receiving comments citing reasons and pertinent data for support or objection to the designation of the applicants. Submit all comments to the Compliance Division at the above address or at http://www.regulations.gov.

In determining which applicant will be designated, we will consider applications, comments, and other available information.

Authority: 7 U.S.C. 71-87k.

Alan Christian,
Acting Administrator, Grain Inspection, Packers and Stockyards Administration.

[FR Doc. E8-12194 Filed 5-30-08; 8:45 am]

BILLING CODE 3410-KD-P